Proclamation 8455 of November 20, 2009

National Farm-City Week, 2009

By the President of the United States of America

A Proclamation

Our Nation’s farm and ranch families supply many of the basic necessities of our daily life. They manage a large portion of our country’s fertile land base, and they are caretakers of our valuable natural resources and diverse ecosystems. Their connections with urban and suburban communities are critical to our economy and to the nourishment of our people. During National Farm-City Week, we express gratitude for the contributions of our Nation’s farmers and ranchers, and we rededicate ourselves to providing all Americans with access to healthy food, and thus, a healthy future.

Pioneered by Native Americans, agriculture was our Nation’s first industry. For agriculture to thrive in the 21st century, we must continue to cultivate the relationships between farmers and rural businesses and their partners and customers in cities and towns. American farmers and ranchers are proud to grow the food, feed, fuel, and fiber that enhance our national security and prosperity, and remain steadfast stewards of the land they love. We must ensure that farming is maintained as an economically, socially, and environmentally sustainable way of life for future generations.

This Thanksgiving season, we celebrate farms of every size that produce fruits, vegetables, dairy, and livestock indispensable to the health of our families. We also recognize the vital ties between our urban and suburban communities and their local farmers through regional food systems, farmers markets, and community gardens. During National Farm-City Week, we celebrate the bounty of America, and we honor the commitment of those who grow, harvest, and deliver agricultural goods to feed our country and grow our economy.

NOW, THEREFORE, I, BARACK OBAMA, President of the United States of America, by virtue of the authority vested in me by the Constitution and the laws of the United States, do hereby proclaim the week ending on Thanksgiving Day of each year as National Farm-City Week. I call on Americans as they gather with their families and friends to reflect on the accomplishments of all who dedicate their lives to promoting our Nation’s agricultural abundance and environmental stewardship.

IN WITNESS WHEREOF, I have hereunto set my hand this twentieth day of November, in the year of our Lord two thousand nine, and of the Independence of the United States of America the two hundred and thirty-fourth.

[FR Doc. E9-28315

Filed 11-23-09; 8:45 am]

Billing code 3195-W0-P